DEPARTMENT OF THE INTERIOR

Bureau of Indian Affairs

[12XA5648MP/A52200010.02Z100/AAHH514630]

Privacy Act of 1974, as Amended; Notice To Amend an Existing System of Records

AGENCY: Bureau of Indian Affairs, Interior.

ACTION: Notice of an amendment to an existing system of records.

SUMMARY: Pursuant to the provisions of the Privacy Act of 1974, as amended, the Department of the Interior is issuing a public notice of its intent to amend the Bureau of Indian Affairs Privacy Act system of records, “Indian Electric Power Utilities—Interior, BIA 26,” to update the system name, system location, categories of individuals covered by the system, categories of records in the system, authority for maintenance of the system, routine uses, storage, safeguards, retention and disposal, system manager and address, notification procedures, records access and contesting procedures, and records source categories. The system name will be updated to the “Electrical Utility Management System, BIA-26.” The Electrical Utility Management System is an automated billing system used to facilitate the management of the utility billing process within the Bureau of Indian Affairs. The system will assist an electrical utility provider in managing functions, such as billing, collections, service orders, meter reading, managing customer accounts, accounting, and tracking service history for Bureau of Indian Affairs electrical utility customers.

DATES: Comments must be received by June 9, 2014. This amended system will be effective June 9, 2014.

ADDRESSES: Any person interested in commenting on this notice may do so by: submitting comments in writing to Scott Christenson, Indian Affairs Privacy Act Officer, 12220 Sunrise Valley Drive, Reston, Virginia 20191; hand-delivering comments to Scott Christenson, Indian Affairs Privacy Act Officer, 12220 Sunrise Valley Drive, Reston, Virginia 20191; or emailing comments to Scott.Christenson@bia.gov.

FOR FURTHER INFORMATION CONTACT: Deputy Bureau Director, Bureau of Indian Affairs, Office of Trust Services, U.S. Department of the Interior, 1849 C Street NW., MS 4620-MIB, Washington, DC 20240, or by telephone at (202) 208-5831.

SUPPLEMENTARY INFORMATION:

I. Background

The Department of the Interior (DOI), Bureau of Indian Affairs (BIA), maintains the “Indian Electric Power Utilities—Interior, BIA-26” system of records. The amendment to “Indian Electric Power Utilities—Interior, BIA-26” will revise the system name to the “Electrical Utility Management System, BIA-26.” The Electrical Utility Management System is an automated billing system used to facilitate the management of the utility billing process within the BIA. The system will assist an electrical utility provider in managing functions, such as billing, collections, service orders, meter reading, managing customer accounts, accounting, and tracking service history for BIA electrical utility customers. Other amendments to the system will include updating the system location, categories of individuals covered by the system, categories of records in the system, authority for maintenance of the system, routine uses, storage, safeguards, retention and disposal, system manager and address, notification procedures, records access and contesting procedures, and records source categories. The system notice was last published in the Federal Register on November 12, 1987 (Volume 52, Number 218).

The amendments to the system will be effective as proposed at the end of the comment period (the comment period will end 40 days after the publication of this notice in the Federal Register), unless comments are received which would require a contrary determination. DOI will publish a revised notice if changes are made based upon a review of the comments received.

II. Privacy Act

The Privacy Act of 1974, as amended (5 U.S.C. 552a), embodies fair information practice principles in a statutory framework governing the means by which Federal Agencies collect, maintain, use, and disseminate individuals' personal information. The Privacy Act applies to information that is maintained in a “system of records.” A “system of records” is a group of any records under the control of an agency for which information is retrieved by the name of an individual or by some identifying number, symbol, or other identifying particular assigned to the individual. The Privacy Act defines an individual as a United States citizen or lawful permanent resident. As a matter of policy, DOI extends administrative Privacy Act protections to all individuals. Individuals may request access to their own records that are maintained in a system of records in the possession or under the control of DOI by complying with DOI Privacy Act regulations, 43 CFR Part 2, subpart K.

The Privacy Act requires each agency to publish in the Federal Register a description denoting the type and character of each system of records that the agency maintains, the routine uses that are contained in each system in order to make agency record keeping practices transparent, to notify individuals regarding the uses of their records, and to assist individuals to more easily find such records within the agency. Below is the description of the Bureau of Indian Affairs, Electrical Utility Management System, BIA-26, system of records.

In accordance with 5 U.S.C. 552a(r), DOI has provided a report of this system of records to the Office of Management and Budget and to Congress.

III. Public Disclosure

Before including your address, phone number, email address, or other personal identifying information in your comment, you should be aware that your entire comment, including your personal identifying information, may be made publicly available at any time. While you can ask us in your comment to withhold your personal identifying information from public review, we cannot guarantee that we will be able to do so.

Dated: April 16, 2014.
Scott Christenson,
Indian Affairs Privacy Act Officer, Office of the Assistant Secretary for Indian Affairs.

SYSTEM NAME:

Electrical Utility Management System, BIA-26

SYSTEM LOCATION:

The system is located at the Bureau of Indian Affairs, Office of Information Operations (OIO), 1011 Indian School Rd. NW., Suite 177, Albuquerque, NM 87104. Records may also be located at the Bureau of Indian Affairs, Office of Trust Services, U.S. Department of the Interior, 1849 C Street NW., MS 4620-MIB, Washington, DC 20240, and at BIA Power Utilities providing electrical utility services to Indians and non-Indians in their respective utility service areas.

CATEGORIES OF INDIVIDUALS COVERED BY THE SYSTEM:

Individuals covered by the system include customers, Indians and non-Indians, applying for electrical utility services from BIA Power Utilities for residential, commercial, industrial, lighting, preferred rate, and irrigation wells. This system contains records concerning corporations and other business entities, which are not subject to the Privacy Act. However, records pertaining to individuals acting on behalf of corporations and other business entities may reflect personal information.

CATEGORIES OF RECORDS IN THE SYSTEM:

This system contains records such as service orders, customer deposits, death certificates, and billing and collection records pertaining directly to electrical utility customers including first, middle and last names, social security numbers, dates of birth, dates of death, telephone numbers, service (physical) addresses, mailing addresses, aliases, marital status, account numbers, employee identification numbers, tax identification numbers, customer service identification numbers, meter numbers, and transmitter numbers.

AUTHORITY FOR MAINTENANCE OF THE SYSTEM:

25 U.S.C. 385c, Appropriation and Disposition of Power Revenues; and 25 CFR Part 175, Indian Electric Power Utilities.

ROUTINE USES OF RECORDS MAINTAINED IN THE SYSTEM, INCLUDING CATEGORIES OF USERS AND THE PURPOSES OF SUCH USES:

The Electrical Utility Management System is an automated billing system used to facilitate the management of the utility billing process within the Bureau of Indian Affairs. The system will assist an electrical utility provider in managing functions, such as billing, collections, service orders, meter reading, managing customer accounts, accounting, and tracking service history for Bureau of Indian Affairs electrical utility customers.

In addition to those disclosures generally permitted under 5 U.S.C. 552a(b) of the Privacy Act, disclosures outside DOI may be made as a routine use pursuant to 5 U.S.C. 552a(b)(3) as follows:

(1) (a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To any criminal, civil, or regulatory law enforcement authority (whether Federal, state, territorial, local, tribal or foreign) when a record, either alone or in conjunction with other information, indicates a violation or potential violation of law—criminal, civil, or regulatory in nature, and the disclosure is compatible with the purpose for which the records were compiled.

(4) To an official of another Federal agency to provide information needed in the performance of official duties related to reconciling or reconstructing data files or to enable that agency to respond to an inquiry by the individual to whom the record pertains.

(5) To Federal, state, territorial, local, tribal, or foreign agencies that have requested information relevant or necessary to the hiring, firing or retention of an employee or contractor, or the issuance of a security clearance, license, contract, grant or other benefit, when the disclosure is compatible with the purpose for which the records were compiled.

(6) To representatives of the National Archives and Records Administration to conduct records management inspections under the authority of 44 U.S.C. 2904 and 2906.

(7) To state, territorial and local governments and tribal organizations to provide information needed in response to court order and/or discovery purposes related to litigation, when the disclosure is compatible with the purpose for which the records were compiled.

(8) To an expert, consultant, or contractor (including employees of the contractor) of DOI that performs services requiring access to these records on DOI's behalf to carry out the purposes of the system.

(9) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(10) To the Office of Management and Budget during the coordination and clearance process in connection with legislative affairs as mandated by OMB Circular A-19.

(11) To the Department of the Treasury to recover debts owed to the United States.

(12) To the news media when the disclosure is compatible with the purpose for which the records were compiled.

(13) To a consumer reporting agency if the disclosure requirements of the Debt Collection Act, as outlined at 31 U.S.C. 3711(e)(1), have been met.

(14) To customers, Indians and non-Indians, who have received electrical utility services from BIA Power Utilities to verify receipt of their payments.

POLICIES AND PRACTICES FOR STORING, RETRIEVING, ACCESSING, RETAINING AND DISPOSING OF RECORDS IN THE SYSTEM:

STORAGE:

Records are maintained in paper form in file folders stored in file cabinets, and electronic media such as computers, compact discs, and computer tapes. The electronic records are contained in computer servers, computer hard drives, removable drives, email and electronic databases.

RETRIEVABILITY:

Records in this system are retrieved by individual's name, social security number, customer service identification number, account number, mailing address, service (physical) address, meter number, and transmitter number.

SAFEGUARDS:

Records are maintained in accordance with 43 CFR 2.226, Privacy Act safeguards for records. Access is provided on a need-to-know basis. During working hours, paper records are maintained in locked file cabinets under the control of authorized personnel.

Electronic records are safeguarded by permissions set to “Authenticated Users” which requires password login. The computer servers in which records are stored are located in Department of the Interior facilities that are secured by alarm systems and off-master key access. Access granted to individuals is password protected. The Department's Privacy Act Warning Notice appears on the monitor screens when users access the System. Backup tapes are kept on the data center floor for several weeks and then shipped to Iron Mountain, a secure off site location. Access to the Data Center floor is controlled by key card and only a select number of people have access. The Security Plan addresses the Department's Privacy Act minimum safeguard requirements for Privacy Act systems at 43 CFR 2.226. A Privacy Impact Assessment was conducted to ensure that Privacy Act requirements and safeguard requirements are met. The assessment verified that appropriate controls and safeguards are in place. Personnel authorized to access the system must complete all Security, Privacy, and Records management training and sign the Rules of Behavior.

RETENTION AND DISPOSAL:

Paper records are covered by Indian Affairs Records Schedule records series 4900, and have been scheduled as permanent records under National Archives and Records Administration (NARA) Job Number N1-075-0406 approved on November 21, 2003. Records will be maintained in the office of record for a maximum of 5 years or when no longer needed for current business operations and then retired to the American Indian Records Repository which is a Federal Records Center. In accordance with the Indian Affairs Records Schedule, the subsequent legal transfer of records to the National Archives of the United States will be jointly agreed to between the United States Department of the Interior and the NARA.

A records retention schedule for the electronic records in this system is being developed and will be submitted to NARA for scheduling and approval. Pending approval by NARA, electronic records will be treated as permanent records. Data backups or copies captured on compact discs and computer tapes that are maintained separately from database files are temporary and are retained in accordance with General Records Schedules 20/8 and 24/4(a).

SYSTEM MANAGER AND ADDRESS:

Deputy Bureau Director, Bureau of Indian Affairs, Office of Trust Services, U.S. Department of the Interior, 1849 C Street NW., MS 4620-MIB, Washington, DC 20240.

NOTIFICATION PROCEDURES:

An individual requesting notification of the existence of records on himself or herself should send a signed, written inquiry to the System Manager identified above. The request envelope and letter should both be clearly marked “PRIVACY ACT INQUIRY.” A request for notification must meet the requirements of 43 CFR 2.235.

RECORDS ACCESS PROCEDURES:

An individual requesting records on himself or herself should send a signed, written inquiry to the System Manager identified above. The request should describe the records sought as specifically as possible. The request envelope and letter should both be clearly marked “PRIVACY ACT REQUEST FOR ACCESS.” A request for access must meet the requirements of 43 CFR 2.238.

CONTESTING RECORDS PROCEDURES:

An individual requesting corrections or the removal of material from his or her records should send a signed, written request to the System Manager identified above. A request for corrections or removal must meet the requirements of 43 CFR 2.246.

RECORD SOURCE CATEGORIES:

Information in the system is obtained directly from customers, Indians and non-Indians, applying for electrical utility services from BIA Power Utilities for residential, commercial, industrial, lighting, preferred rate, and irrigation wells.

EXEMPTIONS CLAIMED FOR THE SYSTEM:

None.

[FR Doc. 2014-09711 Filed 4-28-14; 8:45 am]

BILLING CODE 4310-4J-P